DEPARTMENT OF THE INTERIOR

National Park Service

Announcement of Gates of the Arctic National Park Subsistence Resource Commission (SRC) Meeting

AGENCY: National Park Service, Interior.

ACTION: Announcement of Gates of the Arctic National Park Subsistence Resource Commission (SRC) meeting.

SUMMARY: Notice is hereby given in accordance with the Federal Advisory Committee Act that a meeting of the Gates of the Arctic National Park Subsistence Resource Commission will be held on Wednesday, September 25, 2002 and Thursday, September 26, 2002, at Sophie Station Hotel in Fairbanks, Alaska. The proposed meeting provides the Commission an opportunity to continue work on the subsistence hunting program recommendations and other related subsistence management issues. The public is invited to comment on the proposed agenda topics.

The following agenda items will be discussed:

1. Call to order (SRC Chair).

2. SRC Roll Call and Confirmation of Quorum.

3. SRC Chair and Superintendent's Welcome and Introductions.

4. Review and Adopt Agenda.

5. Review and adopt minutes from SRC work session.

6. Review Commission Purpose.

7. Status of Membership.

8. Election of SRC Chair and Vice Chair.

9. Superintendent's Report

10. Gates of the Arctic NP& P Staff Report

(a) Backcountry/Wilderness Planning Initiative.

(b) Community Oral History Project.

11.Federal Subsistence Board Update

(a) Wildlife Management Proposals and Issues

(b) Fisheries Management Proposals and Issues

(c) Customary Trade

(d) Regional Council Update

(1) Northwest Arctic Regional Advisory Council

(2) Western Interior Regional Advisory Council

12. Public and Agency Comments

13. Work Session (comment on issues, develop new recommendations, prepare letters).

14. Set time and place of next SRC meeting.

15. Adjournment

DATES: The meeting will begin at 9 a.m. on Wednesday, September 25, 2002, and conclude at approximately 5 p.m. The meeting will reconvene at 9 a.m. on Thursday, September 26, 2002, and adjourn at approximately 5 p.m. The meeting will adjourn earlier if the agenda items are completed.

ADDRESSES: The meeting will be held at the Sophie Station Hotel, 1717 University Avenue, Fairbanks, Alaska 99709, and telephone (907) 479-3650.

Notice of this meeting will be published in local newspapers and announced on local radio stations prior to the meeting dates. Locations and dates may need to be changed based on weather or local circumstances.

FOR FURTHER INFORMATION CONTACT: Persons who want further information concerning the meeting may contact Superintendent Dave Mills or Fred Andersen, Subsistence Manager, at Gates of the Arctic National Park and Preserve, 201 First Avenue, Fairbanks, AK, 99701, telephone (907) 457-5752.

SUPPLEMENTARY INFORMATION: The Subsistence Resource Commission is authorized under Title VIII, Section 808, of the Alaska National Interest Lands Conservation Act, Pub. L. 96-487, and operates in accordance with the provisions of the Federal Advisory Committees Act.

Draft minutes of the meeting will be available for public inspection approximately six weeks after the meeting from: Superintendent Gates of the Arctic National Park and Preserve, 201 First Avenue, Fairbanks, AK, 99701, telephone (907) 457-5752.

Robert L. Arnberger,
Regional Director, National Park Service, Alaska Region.

[FR Doc. 02-12563 Filed 5-17-02; 8:45 am]

BILLING CODE 4310-70-P